DEPARTMENT OF AGRICULTURE

Forest Service

Modoc County Resource Advisory Committee Field Trip

AGENCY: Modoc Resource Advisory Committee, Alturas, California, USDA Forest Service.

ACTION: Notice.

SUMMARY: Pursuant to the authorities in the Federal Advisory Committees Act (Pub. L. 92-463) and under the Secure Rural Schools and Community Self-Determination Act of 2000 (Pub. L. 106-393), the Modoc National Forest's Modoc County Resource Advisory Committee will go on a field trip Wednesday, July 12, on the Big Valley-Double Head District.

The Modoc County Resource Advisory Committee will meet on Wednesday, July 12, at the Forest Supervisors' Office in Alturas, California at 7:45 a.m. The field trip is open to the public.

SUPPLEMENTARY INFORMATION: The field trip will visit actual and proposed project sites on the Big Valley and Double Head Ranger Districts. The field trip will begin at the Modoc National Forest Office, Parking Area, 800 West 12th St., Alturas. A Trip Itinerary will be provided for those attending the field trip. Time will also be set aside for public comments while on the field trip.

FOR FURTHER INFORMATION CONTACT: Forest Supervisor Stan Sylva, at (530) 233-8700; or Public Affairs Officer Louis Haynes at (530) 233-8846.

Stanley G. Sylva,
Forest Supervisor.

[FR Doc. E6-9878 Filed 6-22-06; 8:45 am]

BILLING CODE 3410-11-P